DEPARTMENT OF COMMERCE

International Trade Administration

[A-533-893]

Forged Steel Fluid End Blocks From India: Final Negative Determination of Sales at Less Than Fair Value

AGENCY: Enforcement and Compliance, International Trade Administration, Department of Commerce.

SUMMARY: The Department of Commerce (Commerce) determines that imports of forged steel fluid end blocks (fluid end blocks) from India are not being, or are not likely to be, sold in the United States at less than fair value (LTFV) for the period of investigation (POI) October 1, 2018 through September 30, 2019.

DATES: Applicable December 11, 2020.

FOR FURTHER INFORMATION CONTACT: Michael Romani or Jacob Keller, AD/CVD Operations, Office I, Enforcement and Compliance, International Trade Administration, U.S. Department of Commerce, 1401 Constitution Avenue NW, Washington, DC 20230; telephone: (202) 482-0198 or (202) 482-4849, respectively.

SUPPLEMENTARY INFORMATION:

Background

On July 23, 2020, Commerce published in the Federal Register its preliminary negative determination in the LTFV investigation of fluid end blocks from India, in which it also postponed the final determination until December 7, 2020.¹ Commerce invited interested parties to comment on the Preliminary Determination. A summary of the events that occurred since Commerce published the Preliminary Determination, as well as a full discussion of the issues raised by parties for this final determination, may be found in the Issues and Decision Memorandum.²

¹ See Forged Steel Fluid End Blocks from India: Preliminary Negative Determination of Sales at Less Than Fair Value and Postponement of Final Determination, 85 FR 44517 (July 23, 2020) (Preliminary Determination), and accompanying memorandum, “Decision Memorandum for the Preliminary Negative Determination in the Less-Than-Fair-Value Investigation of Forged Steel Fluid End Blocks from India,” dated July 16, 2020 (Preliminary Decision Memorandum).

² See Memorandum, “Issues and Decision Memorandum for the Final Negative Determination in the Less-Than-Fair-Value Investigation of Forged Steel Fluid End Blocks from India,” dated concurrently with, and hereby adopted by, this notice (Issues and Decision Memorandum).

Scope of the Investigation

The products covered by this investigation are fluid end blocks from India. For a complete description of the scope of this investigation, see Appendix I.

Scope Comments

During the course of this investigation, Commerce received scope comments from interested parties. Commerce issued a Preliminary Scope Decision Memorandum to address these comments.³ We received comments from interested parties on the Preliminary Scope Decision Memorandum, which we address in the Final Scope Decision Memorandum, dated concurrently with, and hereby adopted by, this final determination.⁴ Commerce is not modifying the scope language as it appeared in the Preliminary Determination. See Appendix I for the final scope of the investigation.

³ See Memorandum, ” Forged Steel Fluid End Blocks from the Federal Republic of Germany, India, Italy, and the People's Republic of China: Scope Comments Decision Memorandum for the Preliminary Determinations,” dated May 18, 2020 (Preliminary Scope Decision Memorandum).

⁴ See Memorandum, “Forged Steel Fluid End Blocks from the Federal Republic of Germany, India, Italy, and the People's Republic of China: Scope Comments Decision Memorandum for the Final Determinations,” dated December 7, 2020 (Final Scope Decision Memorandum).

Analysis of Comments Received

All issues raised in the case and rebuttal briefs that were submitted by parties in this investigation are addressed in the Issues and Decision Memorandum. A list of the issues addressed in the Issues and Decision Memorandum is attached to this notice at Appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Verification

Commerce was unable to conduct on-site verification of the information relied upon in making its final determination in this investigation pursuant to section 782(i) of the Tariff Act of 1930, as amended (the Act). Accordingly, we took additional steps in lieu of an on-site verification and requested additional documentation and information.⁵

⁵ See Commerce's Letter with attached questionnaire in lieu of verification, dated September 2, 2020; see also Bharat Forge Limited's Letter, “Forged Steel Fluid End Blocks from India: Submission of Bharat Forge Limited's Post-Preliminary Response,” dated September 14, 2020.

Changes Since the Preliminary Determination

Based on our analysis of the comments received and examination of the record, we made certain changes to the margin calculations for Bharat Forge Limited. For a discussion of these changes, see the “Changes from the Preliminary Determination” section of the Issues and Decision Memorandum. Consistent with section 776(a) and (b) of the Act, Commerce relied on partial adverse facts available in making our final determination.

Final Determination

The final estimated weighted-average dumping margins are as follows:

⁶ See Memorandum, “Forged Steel Fluid End Blocks from India—Final Determination Analysis Memorandum for Bharat Forge Limited,” dated December 7, 2020.

Exporter or producer | Estimated weighted- average dumping margin (percent)
Bharat Forge Limited | ⁶ 0.00

Commerce preliminarily determined that Ultra Engineers (Ultra), the only other known producer or exporter of subject merchandise identified in the Initiation Notice,⁷ had no sales of in-scope merchandise to the United States during the POI. Therefore, we did not calculate an estimated weighted-average dumping margin for Ultra in the Preliminary Determination.⁸ No party commented on the Preliminary Determination with respect to Ultra. Accordingly, for the final Determination, we continue to find that Ultra had no sales of in-scope merchandise to the United States during the POI.

⁷ See Initiation Notice, 85 FR at 2395.

⁸ See Preliminary Decision Memorandum at 5-6.

Consistent with section 733(d) of the Act, Commerce has not calculated an estimated weighted-average dumping margin for all other producers and exporters because it has not made a final affirmative determination of sales at LTFV.

Disclosure

We intend to disclose the calculations performed in this final determination within five days of the date of publication of this notice to parties in this proceeding in accordance with 19 CFR 351.224(b).

Suspension of Liquidation

Because Commerce has made a final negative determination of sales at LTFV with regard to subject merchandise, Commerce will not direct U.S. Customs and Border Protection to suspend liquidation or to require a cash deposit of estimated antidumping duties for entries of fluid end blocks from India.

International Trade Commission Notification

In accordance with section 735(d) of the Act, we will notify the U.S. International Trade Commission of our final negative determination.

Notification Regarding Administrative Protective Orders

This notice will serve as a final reminder to the parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination and this notice are issued and published pursuant to sections 735(d) and 777(i)(1) of the Act and 19 CFR 351.210(c).

Dated: December 7, 2020.
Jeffrey I. Kessler,
Assistant Secretary for Enforcement and Compliance.

Appendix I

Scope of the Investigation

The products covered by this investigation are forged steel fluid end blocks (fluid end blocks), whether in finished or unfinished form, and which are typically used in the manufacture or service of hydraulic pumps.

The term “forged” is an industry term used to describe the grain texture of steel resulting from the application of localized compressive force. Illustrative forging standards include, but are not limited to, American Society for Testing and Materials (ASTM) specifications A668 and A788.

For purposes of this investigation, the term “steel” denotes metal containing the following chemical elements, by weight: (i) Iron greater than or equal to 60 percent; (ii) nickel less than or equal to 8.5 percent; (iii) copper less than or equal to 6 percent; (iv) chromium greater than or equal to 0.4 percent, but less than or equal to 20 percent; and (v) molybdenum greater than or equal to 0.15 percent, but less than or equal to 3 percent. Illustrative steel standards include, but are not limited to, American Iron and Steel Institute (AISI) or Society of Automotive Engineers (SAE) grades 4130, 4135, 4140, 4320, 4330, 4340, 8630, 15-5, 17-4, F6NM, F22, F60, and XM25, as well as modified varieties of these grades.

The products covered by this investigation are: (1) Cut-to-length fluid end blocks with an actual height (measured from its highest point) of 8 inches (203.2 mm) to 40 inches (1,016.0 mm), an actual width (measured from its widest point) of 8 inches (203.2 mm) to 40 inches (1,016.0 mm), and an actual length (measured from its longest point) of 11 inches (279.4 mm) to 75 inches (1,905.0 mm); and (2) strings of fluid end blocks with an actual height (measured from its highest point) of 8 inches (203.2 mm) to 40 inches (1,016.0 mm), an actual width (measured from its widest point) of 8 inches (203.2 mm) to 40 inches (1,016.0 mm), and an actual length (measured from its longest point) up to 360 inches (9,144.0 mm).

The products included in the scope of this investigation have a tensile strength of at least 70 KSI (measured in accordance with ASTM A370) and a hardness of at least 140 HBW (measured in accordance with ASTM E10).

A fluid end block may be imported in finished condition (i.e., ready for incorporation into a pump fluid end assembly without further finishing operations) or unfinished condition (i.e., forged but still requiring one or more finishing operations before it is ready for incorporation into a pump fluid end assembly). Such finishing operations may include: (1) Heat treating; (2) milling one or more flat surfaces; (3) contour machining to custom shapes or dimensions; (4) drilling or boring holes; (5) threading holes; and/or (6) painting, varnishing, or coating.

Excluded from the scope of this investigation are fluid end block assemblies which (1) include (a) plungers and related housings, adapters, gaskets, seals, and packing nuts, (b) valves and related seats, springs, seals, and cover nuts, and (c) a discharge flange and related seals, and (2) are otherwise ready to be mated with the “power end” of a hydraulic pump without the need for installation of any plunger, valve, or discharge flange components, or any other further manufacturing operations.

The products included in the scope of this investigation may enter under Harmonized Tariff Schedule of the United States (HTSUS) subheadings 7218.91.0030, 7218.99.0030, 7224.90.0015, 7224.90.0045, 7326.19.0010, 7326.90.8688, or 8413.91.9055. While these HTSUS subheadings are provided for convenience and customs purposes, the written description of the scope of the investigation is dispositive.

Appendix II

List of Topics Discussed in the Issues and Decision Memorandum

I. Summary

II. Background

III. Changes From the Preliminary Determination

IV. Discussion of the Issues

Comment 1: Application of Adverse Facts Available

Comment 2: Direct Material Costs

Comment 3: Constructed Value Profit

Comment 4: Major Input Adjustment and the Appropriate Level of Aggregation

V. Recommendation

[FR Doc. 2020-27332 Filed 12-10-20; 8:45 am]

BILLING CODE 3510-DS-P